DEPARTMENT OF DEFENSE

Office of the Secretary

[Docket ID: DoD-2009-OS-0135]

Privacy Act of 1974; System of Records

AGENCY: Defense Logistics Agency, DoD.

ACTION: Notice to amend a system of records.

SUMMARY: The Defense Logistics Agency is proposing to amend a system of records notice in its existing inventory of record systems subject to the Privacy Act of 1974 (5 U.S.C. 552a), as amended.

DATES: The proposed action will be effective without further notice on October 22, 2009 unless comments are received which would result in a contrary determination.

ADDRESSES: Chief Privacy and FOIA Officer, Headquarters Defense Logistics Agency, ATTN: DGA, 8725 John J. Kingman Road, Suite 1644, Fort Belvoir, VA 22060-6221.

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of new or altered systems reports.

Dated: September 15, 2009.
Patricia L. Toppings,
OSD Federal Register Liaison Officer, Department of Defense.

S400.30

SYSTEM NAME:

Mass Transportation Fringe Benefit Program—Outside the National Capital Region (June 14, 2006, 71 FR 34319).

CHANGES:

* * * * *

SYSTEM LOCATION:

Delete entry and replace with “Headquarters, Defense Logistics Agency, 8725 John J. Kingman Road, Suite 6220, ATTN: DES-B, Fort Belvoir, VA 22060-6221 and the Defense Logistics Agency (DLA) primary Level field activities located outside the National Capital Region. Official mailing addresses are published as an appendix to DLA's compilation of systems of records notices.

U.S. Department of Transportation, TRANServe, 400 7th Street, SW, Room P2-0327, Washington, DC 20590-0001.”

* * * * *

AUTHORITY FOR MAINTENANCE OF THE SYSTEM:

Delete entry and replace with “5 U.S.C. 301, Departmental Regulations; 5 U.S.C. 7905, Programs to Encourage Commuting by Means Other Than Single-Occupancy Motor Vehicles; E.O. 12191, Federal Facility Ride Sharing Program; E.O. 13150, Federal Workforce Transportation; and E.O. 9397 (SSN) as amended.”

PURPOSE(S):

Delete entry and replace with “Information is collected and maintained for the purpose of managing the DLA Mass Transportation Fringe Benefit Program for participants Outside the National Capitol Region (ONCR), including receipt and processing of employee applications and distribution of the fare media to employees; to reimburse participants; to track the use of funds used to support the program; to evaluate employee participation in the program; and to prevent misuse of the funds involved.

Participant records may be used by the DLA Primary Level Field Activity parking authorities for the purpose of identifying those individuals who receive a fare subsidy and also make use of a DLA Primary Level Field activity parking sticker.”

ROUTINE USE OF RECORDS MAINTAINED IN THE SYSTEM, INCLUDING CATEGORIES OF USERS AND THE PURPOSES OF SUCH USES:

Delete entry and replace with “In addition to those disclosures generally permitted under 5 U.S.C. 552a(b) of the Privacy Act of 1974, these records contained therein may specifically be disclosed outside the DoD as a routine use pursuant to 5 U.S.C. 552a(b)(3) as follows:

To U.S. Department of Transportation for the purposes of administering the Public Transportation Benefit Program and/or verifying the eligibility of individuals to receive a fare subsidy pursuant to transportation benefit program operated by the DoD or other Federal agencies.

The DoD ‘Blanket Routine Uses' also apply to this system of records.”

* * * * *

RETRIEVABILITY:

Delete entry and replace with “Information is retrieved by individual's name and last 4 digits of their Social Security Number (SSN).”

* * * * *

RETENTION AND DISPOSAL:

Delete entry and replace with “Documents relating to the disbursement of transportation subsidies to employees, including applications of employees no longer in the program, superseded applications, certification logs, vouchers, spreadsheets, and other forms used to document the disbursement of subsidies are destroyed after 3 years.

Documents relating to cash reimbursements for transportation expenses associated with transit passes or vanpools, specifically Standard Form (SF) 1164, entitled “Claim for Reimbursement for Expenditures on Official Business,” are destroyed 6 years and 3 months after period covered by account.”

SYSTEM MANAGER(S) AND ADDRESS:

Delete entry and replace with “ONCR Program Manager, Headquarters, Defense Logistics Agency, 8725 John J. Kingman Road, Suite 6220, ATTN: DES-B, Fort Belvoir, VA 22060-6221, and the ONCR Mass Transportation Fringe Benefit Program Points of Contact at the DLA Primary Level Field Activity Commanders.

Official mailing addresses are published as an appendix to DLA's compilation of systems of records notices.”

NOTIFICATION PROCEDURE:

Delete entry and replace with “Individuals seeking to determine whether information about themselves is contained in this system should address written inquiries to the DLA Privacy Act Office, Headquarters, Defense Logistics Agency, ATTN: DGA, 8725 John J. Kingman Road, Suite 1644, Fort Belvoir, VA 22060-6221.

Written requests for information should contain the full name of the individual, current address, telephone number, and the DLA Primary Level Activity which provided the subsidy.”

RECORD ACCESS PROCEDURES:

Delete entry and replace with “Individuals seeking access to information about themselves contained in this system should address written inquiries to the DLA Privacy Act Office, Headquarters, Defense Logistics Agency, ATTN: DGA, 8725 John J. Kingman Road, Suite 1644, Fort Belvoir, VA 22060-6221 or to the Privacy Act Office of the DLA Primary Level Activity providing the subsidy. Official mailing addresses are published as an appendix to DLA's compilation of systems of records notices.

Written requests for information should contain the full name of the individual, current address, telephone number, and the DLA Primary Level Field Activity which provided the subsidy.”

CONTESTING RECORD PROCEDURES:

Delete entry and replace with “The DLA rules for accessing records, for contesting contents, and appealing initial agency determinations are contained in 32 CFR part 323, or may be obtained from the DLA Privacy Act Office, Headquarters, Defense Logistics Agency, ATTN: DGA, 8725 John J. Kingman Road, Suite 1644, Fort Belvoir, VA 22060-6221.”

* * * * *

S400.30

SYSTEM NAME:

Mass Transportation Fringe Benefit Program-Outside the National Capital Region

SYSTEM LOCATION:

Headquarters, Defense Logistics Agency, 8725 John J. Kingman Road, Suite 6220, ATTN: DES-B, Fort Belvoir, VA 22060-6221 and the Defense Logistics Agency (DLA) Primary Level Field activities located outside the National Capital Region. Official mailing addresses are published as an appendix to DLA's compilation of systems of records notices.

U.S. Department of Transportation, TRANServe, 400 7th Street, SW, Room P2-0327, Washington, DC 20590-0001.

CATEGORIES OF INDIVIDUALS COVERED BY THE SYSTEM:

Defense Logistics Agency (DLA) civilian and military employees; non-appropriated funded employees; interns/students employed and paid directly by DoD (i.e. interns/students hired through contractual agreements are not eligible); eligible interns/students hired for the summer months; members of the Reserve Components who are performing active duty for more than 30 days located outside the National Capital Region who apply for and/or obtain a transit subsidy under the Mass Transportation Fringe Benefit Program (MTFBP); registered and non-registered vanpool owners/operators.

CATEGORIES OF RECORDS IN THE SYSTEM:

Records include applicant's full name, last four digits of their Social Security Number, home address, office symbol and duty location, office telephone number, mode of transportation being used, cost(s) of commuting, reimbursement claim for expenditures, period covered, and amount of reimbursement, and records of vouchers, receipts or payments distributed, dates of participation and termination in program, and vanpool owner/operator certification.

AUTHORITY FOR MAINTENANCE OF THE SYSTEM:

5 U.S.C. 301, Departmental Regulations; 5 U.S.C. 7905, Programs to Encourage Commuting by Means Other Than Single-Occupancy Motor Vehicles; E.O. 12191, Federal Facility Ride Sharing Program; E.O. 13150, Federal Workforce Transportation; and E.O. 9397 (SSN) as amended.

PURPOSE(S):

Information is collected and maintained for the purpose of managing the DLA Mass Transportation Fringe Benefit Program for participants Outside the National Capitol Region (ONCR), including receipt and processing of employee applications and distribution of the fare media to employees; to reimburse participants; to track the use of funds used to support the program; to evaluate employee participation in the program; and to prevent misuse of the funds involved.

Participant records may be used by the DLA Primary Level Field Activity parking authorities for the purpose of identifying those individuals who receive a fare subsidy and also make use of a DLA Primary Level Field Activity parking sticker.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To U.S. Department of Transportation for the purposes of administering the Public Transportation Benefit Program and/or verifying the eligibility of individuals to receive a fare subsidy pursuant to transportation benefit program operated by the DoD or other Federal agencies.

The DoD ‘Blanket Routine Uses' also apply to this system of records.

POLICIES AND PRACTICES FOR STORING, RETRIEVING, ACCESSING, RETAINING, AND DISPOSING OF RECORDS IN THE SYSTEM:

STORAGE:

Records are stored on paper forms and on electronic storage media.

RETRIEVABILITY:

Information is retrieved by individual's name and last 4 digits of their Social Security Number (SSN).

SAFEGUARDS:

Records are maintained in a controlled facility. Physical entry is restricted by the use of locks, guards, and is accessible only to authorized personnel. Access to record is limited to person(s) responsible for servicing the records in the performance of their official duties and who are properly screened and cleared for need-to-know. All individuals granted access to this system of records have received Privacy Act training.

RETENTION AND DISPOSAL:

Documents relating to the disbursement of transportation subsidies to employees, including applications of employees no longer in the program, superseded applications, certification logs, vouchers, spreadsheets, and other forms used to document the disbursement of subsidies are destroyed after 3 years.

Documents relating to cash reimbursements for transportation expenses associated with transit passes or vanpools, specifically Standard Form (SF) 1164, entitled “Claim for Reimbursement for Expenditures on Official Business,” are destroyed 6 years and 3 months after period covered by account.

SYSTEM MANAGER(S) AND ADDRESS:

ONCR Program Manager, Headquarters, Defense Logistics Agency, 8725 John J. Kingman Road, Suite 6220, ATTN: DES-B, Fort Belvoir, VA 22060-6221, and the ONCR Mass Transportation Fringe Benefit Program Points of Contact at the DLA Primary Level Field Activity Commanders.

Official mailing addresses are published as an appendix to DLA's compilation of systems of records notices.

NOTIFICATION PROCEDURE:

Individuals seeking to determine whether information about themselves is contained in this system should address written inquiries to the DLA Privacy Act Office, Headquarters, Defense Logistics Agency, ATTN: DGA, 8725 John J. Kingman Road, Suite 1644, Fort Belvoir, VA 22060-6221.

Written requests for information should contain the full name of the individual, current address, telephone number, and the DLA Primary Level Field Activity which provided the subsidy.

RECORD ACCESS PROCEDURES:

Individuals seeking access to information about themselves contained in this system should address written inquiries to the DLA Privacy Act Office, Headquarters, Defense Logistics Agency, ATTN: DGA, 8725 John J. Kingman Road, Suite 1644, Fort Belvoir, VA 22060-6221 or to the Privacy Act Office of the DLA Primary Level Field Activity providing the subsidy. Official mailing addresses are published as an appendix to DLA's compilation of systems of records notices.

Written requests for information should contain the full name of the individual, current address, telephone number, and the DLA Primary Level Field Activity which provided the subsidy.

CONTESTING RECORD PROCEDURES:

The DLA rules for accessing records, for contesting contents, and appealing initial agency determinations are contained in 32 CFR part 323, or may be obtained from the DLA Privacy Act Office, Headquarters, Defense Logistics Agency, ATTN: DGA, 8725 John J. Kingman Road, Suite 1644, Fort Belvoir, VA 22060-6221.

RECORD SOURCE CATEGORIES:

Applicant requesting transit subsidies; vanpool owner/operator; other federal agencies providing information regarding fare subsidies; and from periodic certifications and reports regarding fare subsidies.

EXEMPTIONS CLAIMED FOR THE SYSTEM:

None.

[FR Doc. E9-22797 Filed 9-21-09; 8:45 am]

BILLING CODE 5001-06-P